DEPARTMENT OF ENERGY

[FE Docket No. PP-197, DOE/EIS-0307]

Notice of Reopening Scoping Period and Schedule for Public Scoping Meetings; Public Service Company of New Mexico

AGENCY: Department of Energy (DOE).

ACTION: Notice.

SUMMARY: DOE announces that it is reopening the scoping period and will hold additional public scoping meetings for the environmental impact statement (DOE/EIS-0307) that is being prepared in connection with an application for a Presidential permit filed by Public Service Company of New Mexico (PNM). PNM has applied for a Presidential permit to construct electric transmission lines across the U.S.-Mexican border. An EIS is being prepared because DOE has determined that the issuance of the Presidential permit would constitute a major Federal action that may have a significant impact upon the environment within the meaning of the National Environmental Policy Act of 1969 (NEPA). The purpose of this notice is to open a new scoping period to obtain comments on two additional alternative transmission corridors that have been identified. One of these new corridors has been designated by PNM as its “preferred alternative.”

DATES: DOE invites interested agencies, organizations, and members of the public to submit comments or suggestions to assist in identifying significant environmental issues not previously identified and in determining the appropriate scope of the EIS. This new scoping period starts with the publication of this notice in the Federal Register and will continue until September 8, 2000. Written and oral comments will be given equal weight, and DOE will consider all comments received or postmarked by September 8, 2000, in defining the scope of the EIS. Comments received or postmarked after that date will be considered to the extent possible.

Dates, times, and locations for the public scoping meetings are:

1. August 22, 7 p.m., Rio Rico Resort, 1069 Camino Caralampi, Rio Rico, Arizona.

2. August 23, 7 p.m., Presidio Plaza Hotel (formerly Holiday Inn City Center), 181 W. Broadway Boulevard, Tucson, Arizona.

Requests to speak at a public scoping meeting(s) should be received by the NEPA Document Manager, Mrs. Ellen Russell, at the address indicated below on or before August 18, 2000. Requests to speak may also be made at the time of the scoping meeting(s). However, persons who submitted advance requests to speak will be given priority if time should be limited during the meeting.

ADDRESSES: Written comments or suggestions on the scope of the EIS and requests to speak at the scoping meeting(s) should be addressed to: Mrs. Ellen Russell, NEPA Document Manager, Office of Fossil Energy (FE-27), U.S. Department of Energy, 1000 Independence Avenue, SW., Washington DC 20585-0350; phone 202-586-9624, facsimile: 202-287-5736, or by electronic mail at Ellen.Russell@hq.doe.gov.

FOR FURTHER INFORMATION CONTACT: For information on the proposed project or to receive a copy of the Draft EIS when it is issued, contact Mrs. Russell at the address listed in the ADDRESSES section of this notice.

For general information on the DOE NEPA review process, contact: Carol M. Borgstrom, Director, Office of NEPA Policy and Compliance (EH-42), U.S. Department of Energy, 1000 Independence Avenue, SW, Washington, DC 20585-0119; Phone: 202-586-4600 or leave a message at 800-472-2756; Facsimile: 202-586-7031.

SUPPLEMENTARY INFORMATION: Executive Order 10485, as amended by Executive Order 12038, requires that a Presidential permit be issued by DOE before electric transmission facilities may be constructed, connected, operated, or maintained at the U.S. international border. The Executive Order provides that a Presidential permit may be issued after a finding that the proposed project is consistent with the public interest. In determining consistency with the public interest, DOE considers the impacts of the project on the reliability of the U.S. electric power system and on the environment. The regulations implementing the Executive Order have been codified at 10 CFR §§ 205.320-205.329. Issuance of a Presidential permit does not mandate that the project be completed; in fact, prior to construction, the recipient must obtain approval from all other Federal, state and local authorities with jurisdiction over the project.

On December 28, 1998, PNM filed an application for a Presidential permit with the Office of Fossil Energy of DOE. PNM proposed to construct up to two transmission lines on a single right-of-way extending approximately 140 to 230 miles from the electric switchyard near the Palo Verde Nuclear Generating Station, located approximately 30 miles west of Phoenix, Arizona, to the U.S.-Mexico border in the vicinity of the western boundary of the Tohono O'odham Nation, Nogales, or Sasabe, Arizona. South of the border, PNM would extend the line(s) approximately 60 to 120 miles to the Santa Ana Substation, located in the City of Santa Ana, Sonora, Mexico, and owned by the Comision Federal de Electricidad (CFE), the national electric utility of Mexico. In its application for a Presidential permit, PNM identified three alternative corridors for construction of the cross-border transmission lines. These corridors, Alternatives 1, 2 and 3, were the subject of public meetings conducted in Nogales, Tucson, Patagonia, Sells, Ajo, Gila Bend, and Casa Grande, Arizona, in March 1999, during a scoping period that extended from February 12 to April 14, 1999 (64 FR 7173, February 12, 1999, and extended by 64 FR 13553, March 19, 1999). Later, three additional alternative corridors (Alternatives 4, 5, and 6) were developed and were the subject of public meetings conducted in Green Valley, Tubac, Sasabe, Three Points (Robles Junction), and Tucson in June 1999, during a second scoping period that extended from June 10 to July 14, 1999 (64 FR 31204, June 10, 1999).

On June 18, 2000, PNM submitted a letter to DOE in which it:

1. Amended its application to include two additional alternative corridors (Alternatives 7 and 8) and identified Alternative 7 as its “preferred alternative”;

2. Notified DOE that it prefers to construct the transmission lines as alternating current (AC) lines rather than direct current (DC) lines; and,

3. Notified DOE that it was in discussions with Citizens Utilities of Nogales, Arizona, regarding the potential for providing back-up electrical service to the utility.

Selection of the AC option would require construction of a back-to-back AC/DC/AC converter station inside the U.S. in the vicinity of the border. If power is supplied to Citizens Utilities in the Nogales area, the “step-down” equipment also would be installed within the confines of this converter station. The AC transmission line(s) would be operated at 345 kV inside the U.S. and at 230 kV between the converter station and CFE's Santa Ana Substation. Use of the AC option means that two electrical circuits would be required. In some locations, both circuits would be installed on the same set of support structures. In other areas, two separate sets of support structures would be required with the need for a wider right-of-way. Each line would have an electrical transfer capability of approximately 400 megawatts (MW). If the AC option is not selected, PMN likely would not provide electrical service to Citizens Utilities.

The EIS is being prepared to satisfy the environmental review requirements of any Federal agency having jurisdiction over the proposed project or any segment of it. Potential Federal cooperating agencies include the U.S. Departments of Agriculture (including the U.S. Forest Service), Interior (including the Bureau of Land Management, Bureau of Indian Affairs and the Fish and Wildlife Service), and State (including the International Boundary and Water Commission).

Description of New Alternatives

Alternative 7 (PNM Preferred Alternative)—This alternative corridor extends southeasterly from the electrical switchyard adjacent to the Palo Verde Nuclear Generating Station (PVNGS), approximately three miles north of Red Rock, Arizona. From this point, the line continues in a southeasterly direction, following highway I-10 and existing electric transmission and natural gas pipelines until approximately Marana. At Marana, this alternative corridor turns south, largely running parallel to an existing powerline corridor approximately eight miles west of Saguaro National Park. Near Orange Grove Road, the corridor turns east until it intersects with a current gas pipeline that runs southeast. It follows the pipeline until it approaches the Central Arizona Project (CAP) where it follows the CAP around the Garcia Strip of the Tohono O'odham Nation. It then heads southwest over Sandario Road and turns due south. Near the existing Bicknell substation, this proposed corridor turns due south following a gas pipeline through the copper mines and west of the mine residue piles that border Green Valley. The corridor would follow the pipeline until a point just north of Arivaca Road (near Amado) where the corridor would head due east, cross I-19, and cross to the east of the existing 115-KV line owned by Citizens Utilities. The corridor would then run south, paralleling the Citizen's line past Tubac and Tumacacori National Historic Park and then head west again, recrossing I-19. The corridor then rejoins the pipeline corridor and follows it through Coronado National Forest until west of Nogales where it crosses the U.S.-Mexico border. If PNM provides service to Citizens Utilities, a converter station and step down substation would be constructed in the vicinity of Nogales.

Alternative 8—This alternative corridor is almost identical to Alternative 7. It differs from Alternative 7 in only one area. North of Arivaca Road (near Amado) this corridor proceeds due south (where Alternative 7 turns east) and continues to parallel the existing gas pipeline to Coronado National Forest, then through the forest, and crosses the border west of Nogales.

A description of alternative transmission corridors 1 thru 6 can be found in the Federal Register notice for the second scoping period, referenced above. This notice can be accessed from the project web site maintained for DOE by Battelle Memorial Institute at http://projects/battelle.org/pnmeis/. In addition, from this site, interested persons can download the PNM Presidential permit application as well as the project fact sheet, maps, verbatim transcripts from previous scoping meetings, and other project-related information.

Scoping Process

Interested parties are invited to participate in the scoping process. Public scoping meetings will be held at the locations, dates, and times indicated above under the DATES and ADDRESSES sections. These scoping meetings will be informal. The DOE presiding officer will establish only those procedures needed to ensure that everyone who wishes to speak has a chance to do so and that DOE understands all issues and comments. Speakers will be allocated approximately 10 minutes for their oral statements. Persons who have not submitted a request to speak in advance may register to speak at the scoping meetings, but advance requests are encouraged. Should any speaker desire to provide for the record further information that cannot be presented within the designated time, such additional information may be submitted in writing by the date listed in the DATES section. Both oral and written comments will be considered and given equal weight by DOE. Oral and written comments previously submitted on Alternatives 1 through 6 have been entered in the official record of this proceeding and need not be resubmitted.

Issued in Washington, DC on July 14, 2000.
Anthony J. Como,
Deputy Director, Electric Power Regulation, Office of Coal & Power Im/Ex, Office of Coal & Power Systems, Office of Fossil Energy.

[FR Doc. 00-18438 Filed 7-19-00; 8:45 am]

BILLING CODE 6450-01-P